DEPARTMENT OF VETERANS AFFAIRS

Fund Availability Under the VA Homeless Providers Grant and Per Diem Program

AGENCY: Department of Veterans Affairs.

ACTION: Notice.

SUMMARY: The Department of Veterans Affairs is announcing the availability of funds for applications for assistance under the “Per Diem Only” component of VA's Homeless Providers Grant and Per Diem Program. This Notice contains information concerning the program, funding priorities, application process, and amount of funding available.

DATES: An original completed and collated grant application (plus three completed collated copies) for assistance under the VA's Homeless Providers Grant and Per Diem Program must be received in the Grant and Per Diem Field Office, by 4:00 PM Eastern Time on Wednesday, April 9, 2008. Applications may not be sent by facsimile (FAX). In the interest of fairness to all competing applicants, this deadline is firm as to date and hour, and VA will treat as ineligible for consideration any application that is received after the deadline. Applicants should take this practice into account and make early submission of their material to avoid the risk of loss of eligibility due to unanticipated delays or other delivery-related problems.

For a Copy of the Application Package: Download directly from VA's Grant and Per Diem Program Web page at: http://www.va.gov/homeless/page.cfm?pg=3 or call the Grant and Per Diem Program Office at (toll-free) 1-877-332-0334. In this package is information on Grants.gov submissions. For a document relating to the VA Homeless Providers Grant and Per Diem Program, see the Final Rule published in the Federal Register on September 26, 2003.

Submission of Application: An original completed and collated grant application (plus three copies) must be submitted to the following address: VA Homeless Providers Grant and Per Diem Field Office, 10770 N. 46th Street, Suite C-200, Tampa, Florida 33617. Applications must be received in the Grant and Per Diem Field office by the application deadline. This includes applications submitted through Grants.gov. Applications must arrive as a complete package. Materials arriving separately will not be included in the application package for consideration and may result in the application being rejected or not funded.

FOR FURTHER INFORMATION CONTACT: Ms. Chelsea Watson, VA Homeless Providers Grant and Per Diem Program, Department of Veterans Affairs, 10770 North 46th Street, Suite C-200, Tampa, Florida 33617; or you may call (toll-free) 1-877-332-0334 for further information.

SUPPLEMENTARY INFORMATION: This Notice announces the availability of funds for assistance under VA's Homeless Providers Grant and Per Diem Program for eligible programs that have not previously applied for or received per diem in connection with a grant (see 38 CFR 61.1 through 61.82). Funding applied for under this Notice is authorized by Public Law 109-461, § 703, known as the Veterans Benefit, Health Care and Information Technology Act of 2006, and by 38 U.S.C. 2011, 2012, 2061, 2064, and may be used for aid for supportive housing. Service Centers will not be funded in this NOFA. Funding will be in the form of per diem payments issued to eligible entities from the date of award and will continue subject to availability of funds and the recipients' compliance with 38 CFR 61.1 through 61.82. For eligibility criteria please refer to Final Rule published in the Federal Register on September 26, 2003, 38 CFR 61.30, 61.31, and 61.32.

VA expects that it will take no longer than 90 days from the date of award for projects to be inspected and become operational. Failure to meet the 90 day milestone may result in the per diem award being terminated.

Capital grant recipients who received capital grant funding under VA's Homeless Providers Grant and Per Diem Program in years 1994 through 2007 for acquisition, renovation or new construction should not respond to this NOFA. Per diem payments for those portions of their programs that were created with capital grant funds is requested in the capital grant application and paid at the time of capital grant project completion and inspection.

Previous “Per Diem Only” recipients that renewed their PDO grants in 2005 or 2007 need not reapply to continue these projects.

VA is pleased to issue this Notice of Fund Availability (NOFA) for the Homeless Providers Grant and Per Diem Program as a part of the effort to end chronic homelessness among our Nation's veterans. The Department expects to create approximately 1000 beds under this NOFA.

Funding available under this NOFA is being offered to help offset the operating expenses of existing state and local governments, Indian Tribal Governments, faith-based, and community-based organizations that are capable of providing supported housing and supportive services for homeless veterans. The District of Columbia, the Commonwealth of Puerto Rico, any territory or possession of the United States, may be considered eligible entities under the definition of “State” in the 38 CFR 61.1 Definitions. It should be noted that VA payment is limited to the applicant's cost of care per eligible veteran minus other sources of payments to the applicant for furnishing services to homeless veterans up to the per day rate VA pays for State Home Domiciliary care. Awardees will be required to support their request for per diem payment with adequate fiscal documentation as to program income and expenses.

Interested organizations should know that the vast majority of homeless veterans in this country suffer from mental illness or substance abuse disorders or are dually diagnosed with both mental illness and substance abuse disorders. In addition, many homeless veterans have serious medical problems. The recent events associated with the Global War on Terrorism (GWOT) coupled with the Nation's returning OIF/OEF veterans further emphasizes the need for collaboration with VA medical centers, VA community-based outpatient clinics or other health care providers as well as with VA and other benefit providers as an important aspect of ensuring that homeless veterans have access to appropriate health care services. VA considers this program an important part of our effort to end chronic homelessness among all veterans.

It is important to be aware that VA places great emphasis on responsibility and accountability. VA has procedures in place to monitor services provided to homeless veterans and outcomes associated with the services provided in grant and per diem-funded programs. VA is also implementing new procedures to further this effort. Applicants should be aware of the following:

All awardees that are conditionally selected in response to this NOFA must meet the Life Safety Code of the National Fire and Protection Association as it relates to their specific facility. Applicants should note that all facilities are to be sprinkled unless they are specifically exempted under the Life Safety Code and make consideration of this when submitting their grant applications as no additional funds will be made available for capital improvements under this per diem only NOFA. VA will conduct an inspection prior to awardees being able to submit request for payment to ensure this requirement is met.

Each per diem-funded program will have a liaison appointed from a nearby VA medical facility to provide oversight and monitor services provided to homeless veterans in the per diem-funded program.

Monitoring will include at least an annual review of each per diem program's progress toward meeting internal goals and objectives in helping veterans attain housing stability, adequate income support, and self sufficiency as identified in each per diem program's original application. Monitoring will also include a review of the agency's income and expenses as they relate to this project to ensure per diem payment is accurate.

Each per diem-funded program will participate in VA's national program monitoring and evaluation system administered by VA's Northeast Program Evaluation Center (NEPEC). It is the intention of VA to develop specific performance targets with respect to housing for homeless veterans. NEPEC's monitoring procedures will be used to determine successful accomplishment of these housing outcomes for each per diem-funded program.

VA encourages all eligible and interested entities to review this NOFA and consider applying for funds to provide service for homeless veterans.

Authority: VA's Homeless Providers Grant and Per Diem Program is authorized by Public Law 109-461, § 703, known as the Veterans Benefit, Health Care and Information Technology Act of 2006, and by 38 U.S.C. 2011, 2012, 2061, 2064. The program is implemented by the final rule codified at 38 CFR part 61.0. The final rule was published in the Federal Register on September 26, 2003, the regulations can be found in their entirety in 38 CFR, Sec. 61.0 through 61.82. Funds made available under this Notice are subject to the requirements of those regulations.

Allocation: Approximately $12 million annually is available for the per diem only award component of this program. This funding subject to the availability of funds and will be available so long as recipients meet the requirements of 38 CFR 61.1 through 61.82.

Funding Priorities: VA is offering to eligible applicants funding priorities for transitional housing and services to; (1) Serve women, women with care of dependent children, (2) serve all veterans in the States of Vermont, Nebraska, and Alaska and, (3) Indian Tribal Governments. Additionally, VA is encouraging interested state and local governments, Indian Tribal Governments, and faith-based and community-based organizations to apply for funding under this NOFA. In this round of capital grant funding, VA expects to award funding to create approximately 1000 community-based supported housing beds.

Funding priority 1. VA is offering the opportunity for providers who are willing to create new projects specifically for women and women with care of dependent children only, which are 30 beds or less. Of those eligible entities in the first funding priority, that are legally fundable, the highest scoring applicants will be funded first until approximately 150 beds are awarded. Applicants not funded in this priority will be considered in the fourth funding priority. Should not enough eligible projects be funded under the first funding priority, beds not awarded in this priority will fall to the fourth funding priority.

Funding priority 2. VA is offering the opportunity for providers who are willing to create new or expand existing projects for homeless veterans in the States of Vermont, Nebraska, and Alaska. Applicants whose projects are physically located in these states will be considered in the second funding priority. Of those eligible entities in the second funding priority, that are legally fundable, the highest scoring applicants will be funded first until approximately 100 beds are awarded. Applicants not funded in this priority will be placed in the fourth funding priority. Should not enough eligible projects be funded under the second funding priority, beds in this priority will fall to the fourth funding priority.

Funding priority 3. VA is offering the opportunity to Indian Tribal Governments or non-profit agencies that will provide transitional housing and services on Indian Tribal Property to apply for funding under this NOFA to create transitional housing and services for homeless veterans. Eligible entities that are Indian Tribal Governments or non-profit agencies willing to provide transitional housing and services on Indian Tribal Property will be considered in the third funding priority as applicable. Of those eligible entities in the third funding priority, that are legally fundable, the highest scoring applicants will be funded first until approximately 100 beds are awarded. Applicants not funded in this priority will be placed in the fourth funding priority. Should not enough eligible projects be funded under the third funding priority, beds in this priority will fall to the fourth funding priority. Note: Non-profit agencies who apply under this priority will be required to provide a letter of assurance from the Indian Tribal Government that if funded the provision of service will occur on Indian Tribal Property.

Funding priority 4. VA is encouraging interested, state and local governments, Indian Tribal Governments, faith-based and community-based organizations, as well as eligible entities located in The District of Columbia, the Commonwealth of Puerto Rico, or any territory or possession of the United States, to apply for funding under this NOFA to create transitional housing and services for all homeless veterans. Eligible entities that are state and local governments, Indian Tribal Governments, faith-based, and community-based organizations, or any territory or possession of the United States, will be considered in the fourth funding priority as applicable. Of those eligible entities that are legally fundable, the highest-ranked applications for which funding is available, will be conditionally selected for eligibility to receive a per diem only award in accordance with their ranked order until funding is expended (approximately 650 beds).

Methodology: VA will review all non-capital grant recipients in response to this notice of funding availability. VA will then group the applicants into the funding priorities categories. Applicants will then be ranked within their respective funding category based on score and any ranking criteria set forth in that funding category only if the applicant scores at least 500 cumulative points from paragraphs (b) (c) (d) (e) and (i) of 38 CFR 61.13.

The highest-ranked application for which funding is available, within the highest funding category, will be conditionally selected for eligibility to receive per diem payment in accordance with their ranked order until VA reaches the projected bed totals for each category. If funds are still available after selection of those applications in the highest priority group VA will continue to conditionally select applicants in lower priority categories in accordance with the selection method set forth in the final rule Section 61.32.

Application Requirements: Applicants must include a cover letter clearly stating under which funding priority they wish to be considered. Non-profit agencies who apply under funding priority three are required to provide a letter of assurance from the Indian Tribal Government that if funded, the provision of service will occur on Indian Tribal property. The specific grant application requirements will be specified in the application package. The package includes all required forms and certifications. Selections will be made based on criteria described in the application, Final Rule, and NOFA. Applicants who are selected will be notified of any additional information needed to confirm or clarify information provided in the application. Applicants will then be notified of the deadline to submit such information. If an applicant is unable to meet any conditions for grant award within the specified time frame, VA reserves the right to not award funds and to use the funds available for other grant and per diem applicants.

Dated: February 1, 2008.
Gordon H. Mansfield,
Deputy Secretary of Veterans Affairs.

[FR Doc. E8-2933 Filed 2-14-08; 8:45 am]

BILLING CODE 8320-01-P